DEPARTMENT OF TRANSPORTATION

Surface Transportation Board

[Docket No. FD 35430]

Texas, Oklahoma & Eastern Railroad, LLC—Acquisition and Operation Exemption—Texas, Oklahoma & Eastern Railroad Company

Texas, Oklahoma & Eastern Railroad, LLC (TOE), a noncarrier, has filed a verified notice of exemption under 49 CFR 1150.31 to acquire from Texas, Oklahoma & Eastern Railroad Company and to operate approximately 40 miles of rail line between milepost 40.0 (the Oklahoma-Arkansas state border) and milepost 0.0 (Valliant, Okla.), including auxiliary, storage, and spur tracks, in McCurtain County, Okla.¹

¹ TOE states that it intends to interchange traffic (1) at the Arkansas-Oklahoma state border with its affiliate DeQueen and Eastern Railroad, LLC, and (2) at Valliant with BNSF Railway Company, Kiamichi Railroad Company, and Union Pacific Railroad Company.

This transaction is related to a transaction in which Patriot Rail, LLC and its subsidiaries entered into an asset purchase agreement on July 21, 2010, to acquire from Weyerhaeuser NR Company certain rail assets and the rail assets of five of its subsidiaries.

This transaction is also related to six other transactions for which notices of exemption have been concurrently filed: Docket No. FD 35425, Tennessee Southern Railroad Company, Patriot Rail, LLC, Patriot Rail Holdings LLC, and Patriot Rail Corp.—Continuance in Control Exemption—Columbia & Cowlitz Railway, LLC, DeQueen and Eastern Railroad, LLC, Golden Triangle Railroad, LLC, Mississippi & Skuna Valley Railroad, LLC, Patriot Woods Railroad, LLC, and Texas, Oklahoma & Eastern Railroad, LLC, in which Patriot Rail, LLC and its subsidiaries seek to continue in control of TOE in this proceeding and five other newly created noncarrier subsidiaries, upon the latter becoming Class III rail carriers in the following proceedings: (1) Docket No. FD 35426, Columbia & Cowlitz Railway, LLC—Acquisition and Operation Exemption—Columbia & Cowlitz Railway Company; (2) Docket No. FD 35427, DeQueen and Eastern Railroad, LLC—Acquisition and Operation Exemption—DeQueen and Eastern Railroad Company; (3) Docket No. FD 35428, Golden Triangle Railroad LLC—Acquisition and Operation Exemption—Golden Triangle Railroad Company; (4) Docket No. FD 35429, Mississippi & Skuna Valley Railroad, LLC—Acquisition and Operation Exemption—Mississippi & Skuna Valley Railroad Company; and (5) Docket No. FD 35431, Patriot Woods Railroad, LLC—Acquisition and Operation Exemption—Weyerhaeuser NR Company, Weyerhaeuser Woods Railroad Operating Division.

The parties intend to consummate the transaction on or after December 21, 2010.

TOE certifies that its projected annual revenues as a result of this transaction will not exceed those that would qualify it as a Class III rail carrier. Because TOE's projected annual revenues will exceed $5 million, TOE certified to the Board on October 20, 2010, that it had complied with the requirements of 49 CFR 1150.32(e) on October 20, 2010, by providing notice to employees and their labor unions on the affected line. Under 49 CFR 1150.32(e), this exemption cannot become effective until 60 days after the date notice was provided.

If the verified notice contains false or misleading information, the exemption is void ab initio. Petitions to revoke the exemption under 49 U.S.C. 10502(d) may be filed at any time. The filing of a petition to revoke will not automatically stay the effectiveness of the exemption. Petitions to stay must be filed no later than December 10, 2010 (at least 7 days before the exemption becomes effective).

An original and 10 copies of all pleadings, referring to Docket No. FD 35430, must be filed with the Surface Transportation Board, 395 E Street, SW., Washington, DC 20423-0001. In addition, a copy of each pleading must be served on Louis E. Gitomer, 600 Baltimore Ave., Suite 301, Towson, MD. 21204.

Board decisions and notices are available on our Web site at http://www.stb.dot.gov.

Decided: November 1, 2010.
By the Board, Rachel D. Campbell, Director, Office of Proceedings.
Jeffrey Herzig,
Clearance Clerk.

[FR Doc. 2010-27995 Filed 11-4-10; 8:45 am]

BILLING CODE 4915-01-P